DEPARTMENT OF HEALTH AND HUMAN SERVICES

Agency for Toxic Substances and Disease Registry

[Program Announcement 02166]

Environmental Exposure to Diisocyanate; Notice of the Availability of Funds

A. Purpose

The Agency for Toxic Substances and Disease Registry (ATSDR) announces the availability of fiscal year (FY) 2002 funds for a cooperative agreement program for Environmental Exposure to Diisocyanate. This program addresses the “Healthy People 2010” priority area of Environmental Health.

The purpose of the program is to conduct exposure assessment(s), biomonitoring, and evaluations of respiratory effects in communities at risk for environmental diisocyanate exposure.

Measurable outcomes of the program will be in alignment with the following performance goals for ATSDR: (1) Develop and provide reliable, understandable information for people in affected communities and tribes and for stakeholders and (2) Build and enhance effective partnerships.

B. Authority and Catalog of Federal Domestic Number

This program is authorized under section 104 (i)(7), (9) and (15) of the Comprehensive Environmental Response, Compensation and Liability Act (CERCLA) of 1980 as amended by the Superfund Amendments and Reauthorization Act (SARA) of 1986 (42 U.S.C. 9604 (i)(7), (9) and (15)). The Catalog of Federal Domestic Assistance number is 93.206.

C. Eligible Applicants

Assistance will be provided to the health departments of States or their bona fide agents or instrumentalities. This includes the District of Columbia, American Samoa, the Commonwealth of Puerto Rico, the Virgin Islands, the Federated States of Micronesia, Guam, the Northern Mariana Islands, the Republic of the Marshall Islands, the Republic of Palau, and federally recognized Indian Tribal governments.

Note: Title 2 of the United States Code, Chapter 26, Section 1611 states that an organization described in section 501(c)(4) of the Internal Revenue Code of 1986 that engages in lobbying activities is not eligible to receive federal funds constituting an award, grant, cooperative agreement, contract, loan, or any other form.

D. Availability of Funds

Approximately $100,000 is available in FY 2002 to fund one award. It is expected that the award will begin on or about September 1, 2002, and will be made for a 12-month budget period within a project period of up to two years. Funding estimates may change.

Continuation awards within an approved project period will be made on the basis of satisfactory progress as evidenced by required reports and the availability of funds.

Use of Funds

Funds may be expended for reasonable program purposes, such as personnel, travel, supplies, and services. Funds for contractual services may be requested; however, the grantee, as the direct and primary recipient of grant funds, must perform a substantive role in carrying out project activities and not merely serve as a conduit for an award to another party or provide funds to an ineligible party. Equipment may be purchased with grant funds, however, justification must be provided which should include a cost comparison of purchase versus lease, and title will be retained by ATSDR.

This program does not require in-kind support or matching funds, however, the applicant should describe any in-kind support in the application.

E. Program Requirements

In conducting activities to achieve the purpose of this program, the recipient will be responsible for activities under 1. Recipient Activities, and ATSDR will be responsible for the activities listed under 2. ATSDR Activities.

1. Recipient Activities

a. Evaluate existing air emissions data and other information to identify communities at risk for diisocyanate exposures.

b. Model the dispersion of diisocyanate releases and define potentially exposed populations.

c. Identify comparable non-exposed comparison communities for each selected exposed community.

d. Establish air monitoring and sampling methodology.

e. Develop the study protocol.

f. Coordinate local Institutional Review Board approval of study protocol.

g. Conduct ambient air monitoring, sampling, and analysis in both exposed and non-exposed communities.

h. Implement the study protocol to include exposure assessments, biomonitoring, and respiratory health evaluations of the community residents in collaboration with ATSDR.

2. ATSDR Activities

a. Collaborate in all activities listed above, including development of sampling methodology and study protocol.

b. Provide epidemiologic and environmental technical support.

c. Facilitate external peer review of the protocol and the final report(s).

d. Prepare and submit protocol and supporting materials to the CDC Institutional Review Board (IRB). The CDC IRB will review and approve the protocol initially and on at least an annual basis until the research project is completed.

e. Collaborate with recipient in all phases of data analysis and interpretation.

f. Conduct technical review and facilitate peer review of all reports.

E. Application Content

The Program Announcement title and number must appear in the application. Use the information in the Program Requirements, Other Requirements, and Evaluation Criteria sections to develop the application content.

Your application will be evaluated on the criteria listed, so it is important to follow them in laying out your program plan.

The narrative should be no more than 20 pages, double-spaced, printed on one-side, with one-inch margins, and unreduced fonts.

The narrative should consist of, at a minimum, a Plan, Objectives, Methods, Evaluation and Budget.

F. Submission and Deadline

Application

Submit the original and two copies of PHS 5161-1 (OMB Number 0920-0428). Forms are available at the following Internet address: www.cdc.gov/od/pgo/forminfo.htm.

On or before 5 p.m. Eastern Time July 30, 2002, submit the application to: Technical Information Management Section, Procurement and Grants Office, Centers for Disease Control and Prevention, 2920 Brandywine Road, Suite 3000, Atlanta, GA 30341.

Deadline: Applications will be considered as meeting the deadline if they are received before 5 p.m. Eastern Time on the deadline date. Applicants sending applications by the United States Postal Service or commercial delivery services must ensure that the carrier will be able to guarantee delivery of the application by the closing date and time. If an application is received after closing due to (1) carrier error, when the carrier accepted the package with a guarantee for delivery by the closing date and time, or (2) significant weather delays or natural disasters, CDC will upon receipt of proper documentation, consider the application as having been received by the deadline.

Applications which do not meet the above criteria will not be eligible for competition and will be discarded. Applicants will be notified of their failure to meet submission requirements.

G. Evaluation Criteria

Applicants are required to provide Measures of Effectiveness that will demonstrate the accomplishment of the various identified objectives of the grant. Measures of Effectiveness must relate to the performance goals as stated in section “A. Purpose” of this announcement. Measures must be objective and quantitative and must measure the intended outcome. These Measures of Effectiveness will be submitted with the application and will be an element of evaluation.

Each application will be evaluated individually against the following criteria by an independent review group appointed by ATSDR.

1. Proposed Program (40 Percent)

The extent to which the applicant's protocol addresses (a) the approach, feasibility, adequacy, and rationale of the proposed project design; (b) the technical merit of the proposed project, including the degree to which the project can be expected to yield results that meet the program objective (including quality assurance and quality control procedures) for the proposed project; (c) the proposed project timeline, including clearly established project objectives for which progress toward attainment can and will be measured. Applicants are required to provide Measures of Effectiveness that will demonstrate the accomplishment of the various identified objectives of the cooperative agreement. Measures must be objective/quantitative and must measure the intended outcome. These Measures of Effectiveness shall be submitted with the application and shall be an element of evaluation; (d) the proposed method to disseminate study results; and (e) the degree to which the applicant has met the CDC Policy requirements regarding the inclusion of women, ethnic, and racial groups in the proposed research. This includes:

(1) The proposed plan for the inclusion of both sexes and racial and ethnic minority populations for appropriate representation.

(2) The proposed justification when representation is limited or absent.

(3) A statement as to whether the design of the study is adequate to measure differences when warranted.

(4) A statement as to whether the plans for recruitment and outreach for study participants include the process of establishing partnerships with community(ies) and recognition of mutual benefits.

2. Program Personnel (30 Percent)

The extent to which the applicant has described (a) the qualifications, experience, and commitment of the principal investigator (or project director) and their ability to devote adequate time and effort to provide effective leadership; and (b) the qualifications and experience of program personnel, including demonstrated capability and experience in conducting the air monitoring, sampling, and modeling activities described under the recipient activities.

3. Applicant Capability and Coordination Efforts (20 Percent)

The extent to which the proposal has described (a) the capability of the applicant's administrative structure to foster successful scientific and administrative management of a study; and (b) the capability of the applicant to demonstrate an appropriate plan for interaction with other public health and environmental agencies.

4. Data Access (10 Percent)

The extent to which the proposal has demonstrated the capability of the applicant to access records that will be helpful in identifying facilities that are currently using diisocyanates.

5. Program Budget—(Not Scored)

The extent to which the budget is reasonable, clearly justified, and consistent with intended use of cooperative agreement funds.

6. Human Subjects (Not Scored)

Does the application adequately address the requirements of Title 45 CFR Part 46 for the protection of human subjects?

H. Other Requirements

Technical Reporting Requirements

Provide CDC with original plus two copies of:

1. Semi-annual progress reports (Attachment II)

2. Financial status report, no more than 90 days after the end of the budget period.

3. Final financial and performance reports, no more than 90 days after the end of the project period.

4. Applicants are required to provide Measures of Effectiveness that will demonstrate the accomplishment of the various identified objectives of the grant.

Send all reports to the Grants Management Specialist identified in the “Where to Obtain Additional Information” section of this announcement.

The following additional requirements are applicable to this program. For a complete description of each, see Attachment I in the application kit.

AR-1 Human Subjects Requirements

AR-2 Requirements for Inclusion of Women and Racial and Ethnic Minorities in Research

AR-7 Executive Order 12372 Review

AR-9 Paperwork Reduction Act Requirements

AR-10 Smoke-Free Workplace Requirements

AR-11 Healthy People 2010

AR-12 Lobbying Restrictions

AR-17 Peer and Technical Reviews of Final Reports of Health Studies—ATSDR

AR-18 Cost Recovery—ATSDR

AR-19 Third Party Agreements—ATSDR

AR-22 Research Integrity

I. Where To Obtain Additional Information

A complete copy of the announcement may be downloaded from CDC's home page on the Internet at: http://www.cdc.gov Click on “Funding” then “Grants and Cooperative Agreements.”

If you have questions after reviewing the contents of all the documents, business management technical assistance may be obtained from: Edna Green, Grants Management Specialist, Grants Management Branch, Procurement & Grants Office, Centers for Disease Control and Prevention, Announcement 02166, Room 3000, 2920 Brandywine Road, Atlanta, GA 30341-4146, Telephone number (770) 488-2722, Email address: ecg4@cdc.gov.

For program technical assistance, contact: Curtis W. Noonan, PhD, Epidemiologist, Division of Health Studies, Agency for Toxic Substances and Disease Registry, Executive Park, Building 4, Suite 1300, Atlanta, GA 30305, Telephone (404) 498-0588, E-mail Address: Cnoonan@cdc.gov; Or Nelda Godfrey, Funding Resource Specialist, Division of Health Studies, Agency for Toxic Substances and Disease Registry, 1600 Clifton Rd., NE., Mail Stop E-31, Atlanta, GA 30333, Telephone (404) 498-0628, E-mail Address: nag9@cdc.gov.

Dated: June 11, 2002.
Edward J. Schultz,
Director, Procurement and Grants Office, Centers for Disease Control and Prevention.

Attachment II—Semi-Annual Report

Semi-annual report should include:

1. A brief program description.

2. A listing of program goals and objectives accompanied by a comparison of the actual accomplishments related to the goals and objectives established for the period.

3. If established goals and objectives to be accomplished were delayed, describe both the reason for the deviation and anticipated corrective action or deletion of the activity from the project.

4. Other pertinent information, including the status of the program.

5. Measures of Effectiveness shall be a data requirement to be submitted with or incorporated into the semi-annual progress reports.

6. Financial recap of obligated dollars to date as a percentage of total available funds.

[FR Doc. 02-16090 Filed 6-25-02; 8:45 am]

BILLING CODE 4163-70-P